DEPARTMENT OF JUSTICE

Antitrust Division

Notice Pursuant to the National Cooperative Research and Production Act of 1993—Aerospace Vehicle Systems Institute (“AVSI”) Cooperative

Notice is hereby given that, on June 18, 2001, pursuant to Section 6(a) of the National Cooperative Research and Production Act of 1993, 15 U.S.C. 4301 et seq. (“the Act”), Aerospace Vehicle Systems Institute (“AVSI”) Cooperative has filed written notifications simultaneously with the Attorney General and the Federal Trade Commission disclosing changes in its membership and project status. The notifications were filed for the purpose of extending the Act's provisions limiting the recovery of antitrust plaintiffs to actual damages under specified circumstances. Specifically, TRW Ltd., Shirley, West Midlands, United Kingdom, acting through its TRW Aeronautical Systems division, Solihull, United Kingdom has been added as a party to this venture. Additionally, the AVSI Cooperative intends to undertake the following joint research projects:

“No Fault Found and Maintenance Costs”—To combine avionics component in-service information from systems suppliers, OEMs and airline operators to develop a better understanding of No Fault Found in LRU maintenance operations to improve system/LRU diagnostic and maintenance practices. This data will be used with a standard life cycle cost prediction tool to study how design changes can improve product reliability.

“LRU Reliability Differences Between Business, Commercial & Cargo Jets”—to investigate the in-service performance of selected airplane systems components in diverse operational situations to better understand how varied operational conditions can cause performance degradation or excessive maintenance.

“Wireless Communications for Aircraft Systems”—to develop and validate an analytical/simulation model to predict the performance of wireless communications within the environment of a generic airplane to assess the viability of wireless communication technology to inter link essential or critical aircraft systems.

No other changes have been made in either the membership or planned activity of the group research project. Membership in this group research project remains open, and the AVSI Cooperative intends to file additional written notification disclosing all changes in membership.

On November 18, 1998, the AVSI Cooperative filed its original notifications pursuant to Section 6(a) of the Act. The Department of Justice published a notice in the Federal Register pursuant to Section 6(b) of the Act on February 18, 1999 (64 FR 8123).

The last notification was filed with the Department on November 7, 2000. A notice was published in the Federal Register pursuant to Section 6(b) of the Act on March 2, 2001 (66 FR 13080).

Constance K. Robinson,
Director of Operations, Antitrust Division.

[FR Doc. 01-20093 Filed 8-9-01; 8:45 am]

BILLING CODE 4410-11-M